DEPARTMENT OF AGRICULTURE

Commodity Credit Corporation

7 CFR Part 1467

RIN 0578-AA16

Wetlands Reserve Program

AGENCY: Commodity Credit Corporation, USDA.

ACTION: Final rule.

SUMMARY: The Farm Security and Rural Investment Act of 2002 amended the authority of the Secretary of Agriculture under the Wetlands Reserve Program to broaden the ability of landowners subject to foreclosure to remain eligible for participation in the program. This change, the terms of which are not subject to agency discretion, is mandatory.

EFFECTIVE DATE: June 7, 2002.

FOR FURTHER INFORMATION CONTACT: Roger L. Bensey at (202) 720-3534.

SUPPLEMENTARY INFORMATION:

Discussion

The Wetlands Reserve Program is authorized under Subtitle D, Title XII of the Food Security Act of 1985 (16 U.S.C. 3837-3837f) and provides wetland conservation assistance through long-term easements and restoration agreements. NRCS published the current regulations for the Wetlands Reserve Program, 7 CFR part 1467, as a final rule on August 14, 1996 (61 FR 42137). The regulations, based upon statutory mandate, prohibited the Secretary from creating an easement on land that had changed ownership within the 12 months preceding the application for enrollment in the program. However, the Secretary could waive this ownership requirement if the new ownership was acquired by will or succession, or if the Secretary determined that the land was acquired under circumstances that gave adequate assurances that such land was not acquired for the purposes of placing it in the program. The Farm Security and Rural Investment Act of 2002, Public Law 107-171, expands the ability of the Secretary to grant a waiver if the “ownership change occurred due to foreclosure on the land and the owner of the land immediately before the foreclosure exercises a right of redemption from the mortgage holder in accordance with State law.”

This final rule incorporates this mandated statutory change into the Wetlands Reserve Program regulations. This change is non-discretionary on the part of the agency, and thus no public comments are being solicited.

Executive Order 12866

This document does not meet the criteria for a significant regulatory action as specified in Executive Order 12866.

Regulatory Flexibility Act

It has been determined that the Regulatory Flexibility Act is not applicable to this rule because Natural Resources Conservation Service (NRCS) is not required by 5 U.S.C. 553, or any other provision of law, to publish a notice of proposed rule making with respect to the subject matter of this rule.

Paperwork Reduction Act

No recordkeeping or reporting burden is associated with this rule.

Executive Order 12778

This final rule has been reviewed in accordance with Executive Order 12778. The provisions of this final rule are not retroactive. Furthermore, the provisions of this final rule preempt State and local laws to the extent such laws are inconsistent with this final rule. Before an action may be brought in a Federal court of competent jurisdiction, the administrative appeal rights afforded persons at 7 CFR part 614 must be exhausted.

Unfunded Mandates Reform Act of 1995

Pursuant to Title II of the Unfunded Mandates Reform Act of 1995, Public Law 104-4, NRCS assessed the affects of this rulemaking action on State, local, and tribal governments, and the public. This action does not compel the expenditure of $100 million or more by any State, local or tribal governments, or anyone in the private sector, and therefore, a statement under section 202 of the Unfunded Mandates Reform Act of 1995 is not required.

Federal Domestic Assistance Program

The title and number of the Federal Domestic Assistance Program, as found in the Catalog of Federal Domestic Assistance, to which this rule applies are: Wetlands Reserve Program—10.072.

List of Subjects in 7 CFR Part 1467

Administrative practice and procedure, Agriculture, Soil conservation, Wetlands.

Accordingly, 7 CFR part 1467 is amended as follows:

PART 1467—WETLANDS RESERVE PROGRAM

1. The authority citation for part 1467 is revised to read as follows:

Authority: 16 U.S.C. 3837, et seq.

2. Section 1467.4 is amended by revising paragraph (c)(2) to read as follows:

§ 1467.4 Program requirements.

* * * * *

(c) * * *

(2) Have been the landowner of such land for the 12 months prior to the time the intention to participate is declared unless it is determined by the State Conservationist that the land was acquired by will or success as a result of the death of the previous landowner, the ownership change occurred due to foreclosure on the land and the owner of the land immediately before the foreclosure exercises a right of redemption from the mortgage holder in accordance with State law, or that adequate assurances have been presented to the State Conservationist that the new landowner of such land did not acquire such land for the purpose of placing it in the WRP; and

* * * * *

Signed in Washington, DC on May 24, 2002.
Bruce I. Knight,
Vice President, Commodity Credit Corporation, and Chief, Natural Resources Conservation Service.

[FR Doc. 02-14142 Filed 6-6-02; 8:45 am]

BILLING CODE 3410-16-P